ENVIRONMENTAL PROTECTION AGENCY

[FRL-8205-7]

Announcement of the Board of Trustees for the National Environmental Education and Training Foundation, Inc.

SUMMARY: The National Environmental Education and Training Foundation was created by Section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following appointment to the National Environmental Education and Training Foundation, Inc. Board of Trustees. The appointees are Kenneth Strassner, Vice President—Global Environment, Safety, Regulatory and Scientific Affairs, Kimberly-Clark Corporation and Dr. Bradley F. Smith, Dean of Huxley College of the Environment at Western Washington University. The appointees will join the current Board members which include:

• J.L. Armstrong, National Manager, Diversity Development, Toyota Motor Sales, USA

• Braden Allenby, Vice President, Environment, Health and Safety, AT&T

• Raymond Ban, Executive Vice President, Meteorology Science and Strategy, The Weather Channel, Inc.

• Richard Bartlett, (NEETF Chairman) Vice Chairman, Mary Kay Holding Corporation

• Holly Cannon, Principal of the Law Firm Beveridge&Diamond

• Arthur Gibson, Vice President, Environment, Health&Safety, The Home Depot, Inc.

• Dorothy Jacobson, Consultant

• Karen Bates Kress, President, KBK Consulting, Inc.

• Dorothy McSweeny, (NEETF Vice Chair), Chair, DC Commission on the Arts and Humanities

• Honorable William Sessions, former Director of the Federal Bureau of Investigation.

Additional Considerations: Great care has been taken to assure that these new appointees not only have the highest degree of expertise and commitment, but also brings to the Board diverse points of view relating to environmental education and training. These appointments shall be for four year terms.

FOR FURTHER INFORMATION CONTACT: C. Michael Baker, Acting Director, Environmental Education Division, Office of Children's Health Protection and Environmental Education (1704A) U.S. EPA 1200 Pennsylvania Ave., NW., Washington, DC 20460.

Dated: July 27, 2006, BIOS of New Member.
Stephen L. Johnson,
Administrator.

Kenneth A. Strassner, Vice President, Global Environment, Safety, Regulatory and Scientific Affairs, Kimberly-Clark Corporation.

Mr. Strassner is an honors graduate (magna cum laude) of Yale College (1968 and of Yale Law School (1974). Prior to joining Kimberly-Clark in 1976, Mr. Strassner served as an officer in the U.S. Navy, practiced with a Washington, DC law firm and served as Executive Assistant to the Assistant Secretary of Labor for Occupational Safety and Health. Mr. Strassner's legal specialties include U.S. and international environmental and energy law, product safety matters and occupational safety and health requirements. In 1988, Mr. Stassner was appointed Vice President-Environment and Energy, Kimberly-Clark Corporation, responsible for formulation of corporate policies and management of the Corporation's technical support staffs in both areas. His areas of responsibility were expanded in November 2004, and he now serves as Vice President-Global Environment, Safety, Regulatory and Scientific Affairs for Kimberly-Clark. In addition, Mr. Strassner is a member of various professional associations and is the current Chairman of the Corporate Environmental, Health and Safety Management Roundtable.

Bradley F. Smith, Vice President Dean of Huxley College of The Environment, Western Washington University.

Bradley F. Smith was named Dean of Huxley College of the Environment at Western Washington University in September of 1994. Prior to his appointment, Dr. Smith had served for three years as the first Director of the Office of Environmental Education for the U.S. Environmental Protection Agency. He also served as a Special Assistant to the administrator of the EPA and as Acting Associate Administrator for the EPA. Dr. Smith was appointed to the U.S. Senior Executive Service in 1992. Dr. Smith received his Ph.D. from the University of Michigan School of Natural Resources and the Environment. His BA and MA are in economics and political science.

From 1975 to 1990, Dr. Smith was a professor of political science and biology, and concurrently was executive director of Michigan's Tobico Marsh National Refuge from 1982 to 1990. During this time, he also served as adjunct faculty at the Air Force Institute of Technology and the University of Michigan's School of Natural Resources and the Environment. Dr. Smith has been a Fulbright Scholar to England and a NATO Fellow. He holds adjunct faculty positions, in Russia, China, Holland and Japan. Concurrently, he serves as a senior advisor to General Motors Corporation VP Environment, Energy and Public Policy and the GM Foundation. He also is an external evaluator for the U.S. Department of Energy and is the President of the U.S. Council of Environmental Deans and Directors and President of the World Conservation Learning Network (an organization of some 400 universities based in Geneva, Switzerland). Formerly Dr. Smith served as an appointed member of President Clinton's Council for Sustainable Development (Education Task Force). His most recent publications include co-author of Environmental Science: A Study of Interrelationships, 10th edition 2004, and Environmental Science Field Guide and Laboratory Manual, 10th edition 2004, McGraw-Hill.

[FR Doc. E6-12627 Filed 8-3-06; 8:45 am]

BILLING CODE 6560-50-P